DEPARTMENT OF TRANSPORTATION

Federal Aviation Administration

[Summary Notice No. PE-2001-39]

Petitions for Exemption; Summary of Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on May 22, 2001.
Donald P. Byrne,
Assistant Chief Counsel for Regulations.

Dispositions of Petitions

Docket No.: FAA-2001-9096 (previously Docket No. 24446).

Petitioner: Air Transport Association of America.

Section of 14 CFR Affected: 14 CFR 121.485(b).

Description of Relief Sought/Disposition: To permit ATA-member airlines and other similarly situated part 121 air carriers to conduct flights of less than 12 hours' duration with an airplane having a flight crew of three or more pilots and an additional flight crewmember without requiring the rest period following that flight to be twice the hours flown since the last rest period at each flight crewmember's home base.

Grant, 04/25/2001, Exemption No. 4317H.

Docket No.: 30173.

Petitioner: Raytheon Aircraft Company.

Section of 14 CFR Affected: 14 CFR 25.785(b).

Description of Relief Sought/Disposition: To permit relief from the general occupant protection requirements for occupants of multiple place side-facing seats that are occupied during takeoff and landing in any Raytheon Model 4000 airplane manufactured prior to January 1, 2004.

Partial Grant, 04/23/2001, Exemption No. 7512.

Docket No.: 29361.

Petitioner: Columbia Helicopters, Inc.

Section of 14 CFR Affected: 14 CFR 135.152(a).

Description of Relief Sought/Disposition: To permit CHI to operate eight Boeing Chinook Model BV-234 and fifteen Boeing/Kawasaki Vertol 107 Model BV/KV-107-II helicopters under part 135 without an approved digital flight data recorder installed in each aircraft.

Grant, 04/17/2001, Exemption No. 7509.

Docket No.: FAA-2000-8157.

Petitioner: Petroleum Helicopters, Inc.

Section of 14 CFR Affected: 14 CFR 135.152(a).

Description of Relief Sought/Disposition: To permit PHI to operate three Bell 212 helicopters (Registration Nos. N1074C, N5009N, and N5736D; Serial Nos. 30989, 30915, and 31135, respectively), two Bell 214ST helicopters (Registration Nos. N59805 and N59806; Serial Nos. 28141 and 28140, respectively), four Bell 412 helicopters (Registration Nos. N2014K, N2258F, N3893L, and N30YM; Serial Nos. 33020, 33073, 33006, and 36032, respectively), two Sikorsky S-76A helicopters (Registration Nos. N760PH and N761PH; Serial Nos. 760078 and 760224, respectively), and one Bell 412SP helicopter (Registration No. N142PH; Serial No. 33150) under part 135 without an approved digital flight data recorder installed on each helicopter.

Grant, 04/20/2001, Exemption No. 6713F.

Docket No.: FAA-2000-8514.

Petitioner: Addison Aviation Services, Inc.

Section of 14 CFR Affected: 14 CFR 25.857(e)(4).

Description of Relief Sought/Disposition: To provide AAS with relief from 14 CFR 25.857(e)(4) pertaining to the exclusion of hazardous quantities of smoke, flames, and noxious gases from the flight crew compartment to permit supplemental type certification of the Learjet Model 25 series airplanes modified for the carriage of cargo.

Grant, 04/11/2001, Exemption No. 7507.

[FR Doc. 01-13440 Filed 5-25-01; 8:45 am]

BILLING CODE 4910-13-M